Proclamation 8960 of April 19, 2013

National Volunteer Week, 2013

By the President of the United States of America

A Proclamation

As Americans, we are inheritors to a legacy of diversity unlike any other place on earth. We are home to more than 300 million people who come from every background, practice every faith, and hold every point of view. But where difference could draw us apart, we are bound together by a single sacred word: citizen. It defines our way of life, and it captures our belief in something bigger than ourselves—the notion that our destiny is shared, and all of us do better when we accept certain obligations to one another.

National Volunteer Week is a time to renew that fundamentally American idea of service and responsibility. It is also a time to recognize the men, women, and children who bring that principle into practice every day by lifting up the people around them. Volunteering rates are the highest they have been in years. More Americans are answering the call to serve—not for fanfare or attention, but because they want to give back. And as they do, they are making our communities stronger. They are boosting local economies. And they are building ladders of opportunity for those who need them most.

My Administration is dedicated to helping more Americans make that commitment. Through the Corporation for National and Community Service, we are investing in programs like AmeriCorps, FEMA Corps, and Senior Corps so more people can focus their talents on improving our neighborhoods. As we continue to draw down our forces abroad, we are opening up new ways for Americans to serve our veterans and military families here at home. We are encouraging States to let workers on unemployment insurance volunteer and build the skills they need to find a job. And this year, we are proposing new funding for the Volunteer Generation Fund that would help nonprofits recruit, manage, and maintain strong volunteer workforces. We also renamed the program the George H.W. Bush Volunteer Generation Fund, honoring the legacy of our 41st President and his enduring commitment to volunteerism.

We need not look far to see the power of service. Less than 6 months ago, when Hurricane Sandy bore down on our Atlantic coast, Americans responded with compassion and resolve. As an act of terror struck Boston at the finish line of a great race, and an explosion in Texas tore through a tight-knit community, we stood by each other in times of need. Ordinary men and women have stepped forward and accomplished extraordinary things together, uniting as friends and neighbors and fellow citizens. The strength they have shown reminds us that even in our darkest hours, we look out for each other. We pull together. And we move forward as one. During National Volunteer Week, let us tap into that spirit once more. To find a service opportunity nearby, visit www.Serve.gov.

NOW, THEREFORE, I, BARACK OBAMA, President of the United States of America, by virtue of the authority vested in me by the Constitution and the laws of the United States, do hereby proclaim April 21 through April 27, 2013, as National Volunteer Week. I call upon all Americans to observe this week by volunteering in service projects across our country and pledging to make service a part of their daily lives.

IN WITNESS WHEREOF, I have hereunto set my hand this nineteenth day of April, in the year of our Lord two thousand thirteen, and of the Independence of the United States of America the two hundred and thirty-seventh.

[FR Doc. 2013-09867

Filed 4-23-13; 11:15 am]

Billing code 3295-F3